DEPARTMENT OF DEFENSE

Department of the Army

Notice of Intended Disinterment

AGENCY: Department of the Army, DoD.

ACTION: Notice of intended disinterment.

SUMMARY: The Office of Army Cemeteries (OAC) is honoring the requests of the family members to disinter the human remains of 6 Native American students from the Carlisle Barracks Post Cemetery, Carlisle, Pennsylvania. The decedent names are: Raleigh James from the Washoe tribe, Wade Ayres from the Catawba tribe, Anatasia Achwak(Ashowak) and Anna Vereskin from the Alaskan (Aleut) tribe, Ellen Macy from the Umqua tribe and Frank Green from the Oneida tribe. These students died between 1880 and 1910 while attending the Carlisle Indian Industrial School. At the request of the closest living relative for each decedent, OAC will disinter and facilitate the transport and reinternment of the remains in private cemeteries chosen by the families at government expense. This disinterment will be conducted in accordance with Army Regulation 290-5. This is not a Native American Graves Protection and Repatriation Act (NAGPRA) action because the remains are not part of a collection. They are interred in graves that are individually marked at the Carlisle Barracks Post Cemetery.

DATES: The disinterment is scheduled to begin on June 17, 2022. Transportation to and re-interment in private cemeteries will take place as soon as practical after the disinterment. If other living relatives object to the disinterment of these remains, please provide written objection to Captain Travis Fulmore at the email addresses listed below prior to March 1st, 2022. Such objections may delay the disinterment for the decedent in question.

ADDRESSES: Objections from family members and public comments can be mailed to Captain Travis Fulmore, OAC Project Manager, 1 Memorial Avenue, Arlington, VA 22211 or emailed to usarmy.pentagon.hqda-anmc.mbx.accountability-coe@mail.mil (preferred).

FOR FURTHER INFORMATION CONTACT: Captain Travis Fulmore, OAC Project Managers, 703-695-3570, or at usarmy.pentagon.hqda-anmc.mbx.accountability-coe@mail.mil (preferred).

SUPPLEMENTARY INFORMATION: Additional information related to Native Americans buried at the Carlisle Barracks Post Cemetery can be found at https://armycemeteries.army.mil/Cemeteries/Carlisle-Barracks-Main-Post-Cemetery

James W. Satterwhite Jr.,
Army Federal Register Liaison Officer.

[FR Doc. 2022-03111 Filed 2-11-22; 8:45 am]

BILLING CODE 5001-03-P